FEDERAL COMMUNICATIONS COMMISSION

47 CFR Part 54

[CC Docket No. 96-45, 98-171, 90-571, 92-237, 99-200, 95-116, and 98-170; FCC 02-43]

Federal-State Joint Board on Universal Service

AGENCY: Federal Communications Commission.

ACTION: Final rule; correction.

SUMMARY: The Federal Communications Commission published in the Federal Register of March 13, 2002, a document concerning certain modifications, to the existing federal universal service contribution system. Inadvertently, in the heading and supplementary sections, the docket numbers were listed incorrectly. This document corrects the docket numbers listed in the previous document.

DATES: Effective April 12, 2002.

FOR FURTHER INFORMATION CONTACT: Paul Garnett, Attorney, Common Carrier Bureau, Accounting Policy Division, (202) 418-7400.

SUPPLEMENTARY INFORMATION: This summary contains corrections to the headings section and the supplementary section of the Commission's Report and Order, CC Docket Nos. 96-45, 98-171, 90-571, 92-237, 99-200, 95-116, and 98-170; FCC 02-43, 67 FR 11254 (March 13, 2002). The full text of the Commission's Report and Order is available for public inspection during regular business hours in the FCC Reference Center, Room CY-A257, 445 Twelfth Street, SW., Washington, DC, 20554.

Correction

In rule FR Doc. 02-6028 published on March 13, 2002 (67 FR 11254), make the following corrections:

1. On page 11254, in the second column, “[CC Docket Nos. 96-45, 98-77, 90-571, 92-237, 99-200, and 95-116; FCC 02-43]” is corrected to read “[CC Docket Nos. 96-45, 98-171, 90-571, 92-237, 99-200, 95-116, and 98-170; FCC 02-43]”.

2. On page 11254, in the second column in the last paragraph, “CC Docket Nos. 96-45, 98-171, 90-571, 92-237, 99-200, and 95-” is corrected to read “CC Docket Nos. 96-45, 98-171, 90-571, 92-237, 99-200, 95-116,”.

3. On page 11254, in the third column in the first line, “116, FCC 02-43” is corrected to read “and 98-170; FCC 02-43”.

Federal Communications Commission.
William F. Caton,
Acting Secretary.

[FR Doc. 02-8481 Filed 4-8-02; 8:45 am]

BILLING CODE 6712-01-P